DEPARTMENT OF HEALTH AND HUMAN SERVICES

National Institutes of Health

Proposed Collection; 60-Day Comment Request; Public Health Service Applications and Pre-Award Reporting Requirements (Office of the Director)

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Mikia P. Currie, Program Analyst, Office of Policy for Extramural Research Administration, 6705 Rockledge Drive, Suite 350, Bethesda, Maryland 20892, or call a non-toll-free number 301-435-0941 or Email your request, including your address to trialsinfo@od.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Public Health Service (PHS) Applications and Pre-Award Reporting Requirements, Revision, OMB 0925-0001, Expiration Date 10/31/2018. Form numbers: PHS 398, PHS 416-1, PHS 416-5, and PHS 6031. This collection represents a consolidation of PHS applications and pre-award reporting requirements into a revised data collection under the PRA. This collection includes the proposed use of a new PHS clinical trial application form.

Need and Use of Information Collection: This collection includes PHS applications and pre-award reporting requirements: PHS 398 (paper) Public Health Service Grant Application forms and instructions; PHS 398 (electronic) PHS Grant Application component forms and agency specific instructions used in combination with the SF424 (R&R); PHS Fellowship Supplemental Form and agency specific instructions used in combination with the SF424 (R&R) forms/instructions for Fellowships (electronic); PHS 416-1 Ruth L. Kirschstein National Research Service Award Individual Fellowship Application Instructions and Forms used only for a change of sponsoring institution application [paper]; Instructions for a Change of Sponsoring Institution for the National Research Service Award (NRSA) Fellowships (F30, F31, F32 and F33) and non-NRSA Fellowships; PHS 416-5 Ruth L. Kirschstein National Research Service Award Individual Fellowship Activation Notice; and PHS 6031 Payback Agreement. The PHS 398 (paper and electronic) are currently approved under 0925-0001. All forms expire 10/31/2018. Post-award reporting requirements are simultaneously consolidated under 0925-0002, and include the Research Performance Progress Report (RPPR). The PHS 398 and SF424 applications are used by applicants to request federal assistance funds for traditional investigator-initiated research projects and to request access to databases and other PHS resources. The PHS 416-1 is used only for a change of sponsoring institution application. PHS Fellowship Supplemental Form and agency specific instructions is used in combination with the SF424 (R&R) forms/instructions for Fellowships and is used by individuals to apply for direct research training support. Awards are made to individual applicants for specified training proposals in biomedical and behavioral research, selected as a result of a national competition. The PHS 416-5 is used by individuals to indicate the start of their National Research Service Award (NRSA) awards. The PHS 6031 Payback Agreement is used by individuals at the time of activation to certify agreement to fulfill the payback provisions. Clinical trials are complex and challenging research activities. Oversight systems and tools are critical for the NIH to ensure participant safety, data integrity, and accountability of the use of public funds. The NIH has been engaged in a multi-year effort to examine how clinical trials are supported and the level of oversight needed. The collection of more structured information about proposed clinical trials in the PHS applications and pre-award reporting requirements will facilitate the NIH's oversight of clinical trials as well as assist in understanding where needs in the NIH research portfolio may exist. In addition, some of the data collected here will ultimately be accessible to investigators to pre-populate certain sections of forms when registering their trials with ClinicalTrials.gov.

Frequency of response: Applicants may submit applications for published receipt dates. For NRSA awards, fellowships are activated and trainees appointed.

OMB approval is requested for 3 years. There are no costs to respondents other than their time. The total estimated annualized burden hours are 850,756.

Estimated Annualized Burden Hours
Information collection forms | Number of respondents | Number of responses per respondent | Average burden per response (in hours) | Total annual burden hours
PHS 398—Paper | 4,247 | 1 | 35 | 148,645
PHS 398/424—Electronic:
PHS Assignment Request Form | 37,120 | 1 | 30/60 | 18,560
PHS 398 Cover Page Supplement | 74,239 | 1 | 1 | 74,239
PHS Inclusion Enrollment Report | 54,838 | 1 | 1 | 54,838
PHS 398 Modular Budget | 56,693 | 1 | 1 | 56,693
PHS 398 Training Budget | 1,122 | 1 | 2 | 2,244
PHS 398 Training Subaward Budget Attachment(s) Form | 561 | 1 | 90/60 | 842
PHS 398 Research Plan | 70,866 | 1 | 3 | 212,598
PHS 398 Research Training Program Plan | 1,122 | 1 | 3 | 3,366
Data Tables | 1,515 | 1 | 4 | 6,060
PHS 398 Career Development Award Supplemental Form | 2,251 | 1 | 3 | 6,753
PHS Clinical Trial Protocol Form | 8,264 | 1 | 1 | 8,264
Biosketch (424 Electronic) | 80,946 | 1 | 2 | 161,892
PHS Fellowship—Electronic:
PHS Fellowship Supplemental Form (includes F reference letters) | 6,707 | 1 | 12.5 | 83,838
PHS Assignment Request Form | 3,354 | 1 | 30/60 | 1,677
PHS Inclusion Enrollment Report | 3,354 | 1 | 1 | 3,354
Biosketch (Fellowship) | 6,707 | 1 | 2 | 13,414
416-1 | 29 | 1 | 10 | 290
PHS 416-5 | 6,707 | 1 | 5/60 | 559
PHS 6031 | 6,217 | 1 | 5/60 | 518
VCOC Certification | 6 | 1 | 5/60 | 1
SBIR/STTR Funding Agreement Certification | 1,500 | 1 | 15/60 | 375
Total Annual Burden Hours |  | 420,101 |  | 850,756

Dated: October 22, 2016.
Lawrence A. Tabak,
Deputy Director, National Institutes of Health.

[FR Doc. 2016-26448 Filed 11-1-16; 8:45 am]

BILLING CODE 4140-01-P